DEPARTMENT OF COMMERCE

National Oceanic and Atmospheric Administration

50 CFR Part 648

[Docket No. 110311194-1193-02]

RIN 0648-BA88

Fisheries of the Northeastern United States; Northeast Multispecies Fishery; Notice of a Control Date for the Purpose of Limiting Excessive Accumulation of Control in the Northeast (NE) Multispecies Fishery; NE Multispecies Fishery Management Plan (FMP)

AGENCY: National Marine Fisheries Service (NMFS), National Oceanic and Atmospheric Administration (NOAA), Commerce.

ACTION: Advance notice of proposed rulemaking (ANPR); request for comments.

SUMMARY: At the request of the New England Fishery Management Council (Council), this notification announces that the Council and NMFS is considering and seeking public comment on, potential changes to the Northeast Multispecies Fishery Management Plan that would be implemented through proposed rulemaking, under the authority of the Magnuson-Stevens Fishery Conservation and Management Act (Magnuson-Stevens Act), to limit the accumulation of excessive control or ownership of fishing privileges in the NE multispecies groundfish fishery. The date of publication of this notification, April 7, 2011, shall be known as the “control date,” and may be used as a reference date for future management measures related to such rulemaking. In particular this notification is intended to promote awareness of this possible rulemaking; provide notice to the public that any current or future accumulation of fishing privilege interests in the NE multispecies fishery may be affected, restricted, or even nullified; and to discourage speculative behavior in the market for fishing privileges while the Council considers whether and how such limitations on accumulation of fishing privileges should be developed. This notification also gives the public notice that interested participants should locate and preserve records that substantiate and verify their ownership or control of groundfish permits and other fishing privileges in the NE multispecies fishery in Federal waters.

DATES: April 7, 2011, shall be known as the “control date” and may be used as a reference date for future management measures related to the maintenance of a fishery with characteristics consistent with the Council's objectives and applicable Federal laws. Written comments must be received on or before 5 p.m., local time, May 9, 2011.

ADDRESSES: You may submit comments, identified by RIN 0648-BA88, by any one of the following methods:

• Written comments (paper, disk, or CD-ROM) should be sent to Paul J. Howard, Executive Director, New England Fishery Management Council, 50 Water Street, Mill 2, Newburyport, MA 01950. Mark the outside of the envelope, “Comments on Multispecies Accumulation Limits Control Date.”

• Comments also may be sent via facsimile (fax) to (978) 465-3116.

• Submit all electronic public comments via the Federal e-Rulemaking Portal: http://www.regulations.gov.

Instructions: Comments will be posted for public viewing as they are received. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Travis Ford, Fishery Management Specialist, 978-281-9233; fax 978-281-9135; e-mail: travis.ford@noaa.gov.

SUPPLEMENTARY INFORMATION: The NE Multispecies FMP manages 20 individual stocks comprised of the following species: Cod, haddock, white hake, pollock, Acadian redfish, yellowtail flounder, winter flounder, witch flounder, American plaice, windowpane flounder, Atlantic halibut, ocean pout, and Atlantic wolffish. The Council has managed most of these species as a unit under the FMP since 1985. Many of these stocks remain overfished, and strict regulations have been adopted to control catch and promote stock rebuilding. Current management measures include limited and open-access permit categories, limits on fishing time through days-at-sea (DAS) allocations, gear requirements, closed areas, retention limits, and sector allocation. These measures have been adopted through a series of amendments and adjustments to the original FMP. The most recent amendment, Amendment 16, implemented on May 1, 2010 (75 FR 18262), expanded the use of sectors to manage the fishery. Sectors are voluntary, self-selected groups of fishermen that are allocated a portion of the available catch. Amendment 16 also implemented Annual Catch Limits (ACLs). Exceeding these limits triggers responsive management actions referred to as Accountability Measures (AMs).

In the most recent specification process (Framework Adjustment 44 (75 FR 18356)), ACLs for many NE multispecies stocks were set at very low levels. For certain stocks, catch limits are expected to remain low for the near future. Some members of the fishing industry and the Council have expressed concern that the low catch limits, in conjunction with expanded sector management, will lead to excessive consolidation of fishing privileges and lack of diversity in the groundfish fleet. For example, for several stocks, the potential sector contribution (PSC) associated with a small number of vessel owners enrolled in a sector represents a large percentage of the total allocation to the fishery. In addition, NMFS, in its letter to the Council partially approving Amendment 16, requested the Council to consider developing measures that would mitigate potential negative impacts stemming from the consolidation of permits, both within sectors and among individual permit holders, as they relate to some of the social and economic objectives established in the NE multispecies FMP.

In light of these concerns, the Council, at its January, 2011 meeting, requested that “NMFS publish in the Federal Register as soon as possible a control date to establish accumulation limits in the groundfish fishery.” The Council also indicated at the time that Council staff should coordinate with NMFS in drafting the “control date” so that it reflected Council concerns about accumulation limits. Based on this coordination, this notification announces that the Council is considering management measures that would address, but would not be limited to, concerns related to preventing excessive control or ownership of fishing privileges, maintaining the diversity of the fleet, addressing impacts of market forces on a highly regulated industry, and maintaining fishery infrastructure and fishing ports throughout New England. Fishing privileges include, but are not limited to, vessels, fishing permits, DAS, fishing quotas, PSCs, annual catch entitlements, sector allocations and any other type of catch share.

The date of publication of this notification, April 7, 2011, shall be known as the “control date,” and may be used as a reference date for future management measures in determining how to treat fishing privileges acquired before this date and those acquired after this date, depending on the Council's determinations on limiting control and ownership of such privileges. The establishment of a control date, however, does not obligate the Council to use this control date or take any action, nor does it prevent the Council from picking another control date or imposing limits on permits acquired prior to the control date.

Accordingly, this notification is intended to promote awareness that the Council may be developing management measures to address these concerns, to provide notice to the public that any current or future accumulation of fishing privilege interests in the NE multispecies fishery may be affected, restricted, or even nullified, and discourage speculative behavior in the market for fishing privileges while the Council considers whether and how such limitations on accumulation of fishing privileges should be developed. Any measures the Council is considering may require changes to the NE multispecies FMP. Such measures may be adopted in a future amendment to the FMP, which would include opportunity for further public participation and comment.

This notification also gives the public notice that interested participants should locate and preserve records that substantiate and verify their ownership or control of groundfish permits and other fishing privileges in the NE multispecies fishery in Federal waters.

This notification and control date do not impose any legal obligations, requirements, or expectation. This ANPR has been determined to be not significant for purposes of Executive Order 12866.

Authority: 16 U.S.C. 1801 et seq.

Dated: April 4, 2011.
John Oliver,
Deputy Assistant Administrator for Operations, National Marine Fisheries Service.

[FR Doc. 2011-8353 Filed 4-6-11; 8:45 am]

BILLING CODE 3510-22-P